DEPARTMENT OF COMMERCE

[I.D. 010901A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Northeast Region Permit Family of Forms.

Form Number(s): None.

OMB Approval Number: 0648-0202.

Type of Request: Regular submission.

Burden Hours: 21,035.

Number of Respondents: 43,203.

Average Hours Per Response: 30 minutes for an initial vessel permit application, 15 minutes for a vessel permit renewal application, 5 minutes for a dealer permit application, 1 hour for an operator permit application, 3 hours for a limited access vessel upgrade or replacement application, 30 minutes for a request for retention of a permit history, 3 hours for limited access permit appeal, 2 minutes for a notification prior to the start or end of a fishing trip or for any other notification related to fishery activity unless otherwise noted below, 3 minutes to declare a block of time out of specified fisheries, 1 hour to install a vessel monitoring system, 5 seconds for an automated position report from a vessel monitoring system, 30 minutes for a request to turn off a vessel monitoring system, 2 minutes for notification for observer coverage, 30 minutes to apply for a Good Samaritan credits when assisting Coast Guard search and rescue operations or assisting in towing a disabled vessel; 5 minutes to request a letter of authorization for an exemption program (unless otherwise noted below), 2 minutes to obtain a Charter/Party Exemption Certificate for Gulf of Maine Closed Areas, 2 minutes to request a certificate for the state waters winter flounder exemption program, 5 minutes for a limited access scallop vessel fishing under the scallop DAS program to request a letter of authorization to fish for scallops with trawl nets, 5 minutes for an initial lobster area designation, 2 minutes for a request for additional lobster gear tags, 3 minutes for a notification of lost lobster gear tags, 2 minutes for a request to change a permit category designation, 2 minutes for a request for transit, 3 minutes for an area declaration, 3 minutes to call out of a fishery, 10 minutes for a gillnet category designation (including initial request for gillnet tags), 2 minutes to request additional gillnet tags, 2 minutes to notify of lost tags and to request replacement, 1 minute to attach a gillnet tag, and 1 hour to request a state quota transfer. Note that many of these requirements only apply to specified fisheries in specified circumstances.

Needs and Uses: Any individual or organization participating in federally-controlled fisheries is required to obtain permits. The purpose and use of permits is to: (1) register fishermen, fishing vessels, fish dealers and processors, (2) list the characteristics of fishing vessels and/or dealer/processor operations, (3) exercise influence over compliance (e.g., withhold issuance pending collection of unpaid penalties), (4) provide a mailing list for the dissemination of important information to the industry, (5) register participants to be considered for limited entry, and (6) provide a universe for data collection samples. Identification of the participants, their gear types, vessels, and expected activity levels is an effective tool in the enforcement of fishery regulations. This information is needed to measure the consequences of management controls as well. Participants in certain fisheries may also be required to notify NOAA before fishing trips for the purpose of observer placement and to make other reports on fishing activities.

Affected Public: Business and other for-profit organizations, individuals and households.

Frequency: On occasion, annual, triennial.

Respondent’s Obligation: Mandatory.

OMB Desk Officer: David Rostker, (202) 395-3897.

Copies of the above information collection proposal can be obtained by calling or writing Madeleine Clayton, Departmental Forms Clearance Officer, (202) 482-3129, Department of Commerce, Room 6086, 14th and Constitution Avenue, NW, Washington, DC 20230 (or via the Internet at Mclayton@doc.gov).

Written comments and recommendations for the proposed information collection should be sent within 30 days of publication of this notice to David Rostker, OMB Desk Officer, Room 10202, New Executive Office Building, Washington, DC 20503.

Dated: January 5, 2001.
Madeleine Clayton,
Departmental Forms Clearance Officer, Office of the Chief Information Officer.

[FR Doc. 01-1063 Filed 1-11-01; 8:45am]

BILLING CODE 3510-22-S